GENERAL SERVICES ADMINISTRATION

[Notice-FAS-2011-01; Docket No. 2011-0006; Sequence 22]

Providing Refurbishment Services to Federal Agencies

AGENCY: Federal Acquisition Service, U.S. General Services Administration.

ACTION: Notice.

SUMMARY: In accordance with the National Strategy for Electronics Stewardship recommendations (http://www.gsa.gov/estewardship), GSA is exploring whether and how best to make cost-effective refurbishment services available to Federal agencies to extend the useful life of non-functional electronic equipment. GSA seeks to determine whether providing refurbishment as a service to Federal agencies fits into viable business models, what appropriate standards and certifications ought to be considered, and how best to build Federal contracts for such services.

DATES: Effective date: Submit comments on or before March 8, 2012.

ADDRESSES: Submit comments identified by “Notice-FAS-2011-01” by any of the following methods:

• Regulations.gov: http://www.regulations.gov. Submit comments via the Federal eRulemaking portal by inputting “Notice-FAS-2011-01” under the heading “Enter Keyword or ID” and selecting “Search.” Select the link “Submit a Comment” that corresponds with “Notice-FAS-2011-01.” Follow the instructions provided at the “Submit a Comment” screen. Please include your name, company name (if any), and “Notice-FAS-2011-01” on your attached document.

• Fax: (202) 501-4067.

• Mail: General Services Administration, Regulatory Secretariat (MVCB), ATTN: Hada Flowers, 1275 First Street, NE., 7th Floor, Washington, DC 20417.

Instructions: Please submit comments only and cite “Notice-FAS-2011-01”, in all correspondence related to this case. All comments received will be posted without change to http://www.regulations.gov, including any personal and/or business confidential information provided.

FOR FURTHER INFORMATION CONTACT: Inquiries and clarifications may be sent to Mr. Chris Hoagland, Office of Governmentwide Policy, U.S. General Services Administration, christopher.hoagland@gsa.gov.

SUPPLEMENTARY INFORMATION:

I. Purpose and Information Sought

This notice is for data gathering and planning purposes only, does not constitute a solicitation, and is not to be construed as a commitment by the government to issue a solicitation, Blanket Purchase Agreement (BPA) or award a contract. The Government will not reimburse any respondent for any costs associated with information submitted in response to this notice.

GSA seeks to determine whether providing refurbishment as a service to Federal agencies fits into viable business models, what appropriate standards and certifications ought to be considered, and how best to build Federal contracts for such services. GSA is seeking this information through voluntary responses to the following questions:

1. If you currently provide refurbishment as a service to customers, including Federal, state, or local government entities, describe the process of obtaining equipment and returning it to the customer, including the typical amount of time between pick-up and return.

2. Is there a minimum number of pieces of electronic equipment that must be provided (e.g., a pallet load, a truckload)?

3. Does providing refurbishment as a service (rather than refurbished equipment) fit into viable business models for computer refurbishment companies?

4. How do the fees you charge per refurbished item compare to the cost of new or used equipment?

5. Describe the process for disposing and recycling of failed equipment. Have all facilities in your recycling and disposal process been certified to safely recycle and manage electronics? If so, what certifications do they hold?

6. Who is responsible for disposition of equipment that cannot be refurbished, the customer or the provider of refurbishment services? Is there an additional fee for disposition of equipment that cannot be refurbished?

7. What certifications should the government require of firms offering refurbishment services, including those developed specifically for recycling facilities (e.g., R2 and e-Stewards)?

Dated: February 2, 2012.
Houston Taylor,
Assistant Commissioner, Office of Acquisition Management, Federal Acquisition Service, General Services Administration.

[FR Doc. 2012-2767 Filed 2-6-12; 8:45 am]

BILLING CODE 6820-89-P